FEDERAL COMMUNICATIONS COMMISSION

[FR ID 55684]

Deletion of Item From October 26, 2021 Open Meeting

The following item has been adopted by the Commission and deleted from the list of items scheduled for consideration at the Tuesday, October 26, 2021, Open Meeting. This item was previously listed in the Commission's Notice of Tuesday, October 19, 2021.

2 | MEDIA | TITLE: Updating Digital Television Table of Allotments. (GN Docket No. 12-268).
|  | SUMMARY: The Commission will consider an Order that will update the digital television Table of Allotments, and delete or revise rules rendered obsolete by the broadcast incentive auction and the digital television transition.

* * * * *

The meeting will be webcast with open captioning at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Additional information concerning this meeting may be obtained from the Office of Media Relations, (202) 418-0500. Audio/Video coverage of the meeting will be broadcast live with open captioning over the internet from the FCC Live web page at www.fcc.gov/live.

Dated: October 25, 2021.
Katura Jackson,
Federal Register Liaison.

[FR Doc. 2021-23608 Filed 10-28-21; 8:45 am]

BILLING CODE 6712-01-P